DEPARTMENT OF VETERANS AFFAIRS

[OMB Control No. 2900-New (0913)]

Proposed Information Collection (Applicant Background Survey): Comment Request

AGENCY: Human Resources and Administration, Department of Veterans Affairs.

ACTION: Notice.

SUMMARY: Human Resources and Administration (HRA), the Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments for information needed to survey applicant for employment background information.

DATES: Written comments and recommendations on the proposed collection of information should be received on or before October 13, 2009.

ADDRESSES: Submit written comments on the collection of information through Federal Docket Management System (FDMS) at http://www.Regulations.gov or to Thomas Middleton, Human Resources and Administration (06), Department of Veterans Affairs, 810 Vermont Avenue, NW., Washington, DC 20420 or e-mail to thomas.middleton@va.gov. During the comment period, comments may be viewed online through FDMS.

FOR FURTHER INFORMATION CONTACT: Thomas Middleton at (202) 461-4036 or FAX (202) 501-2145.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, HRA invites comments on: (1) Whether the proposed collection of information is necessary for the proper performance of its functions, including whether the information will have practical utility; (2) the accuracy of HRA's estimate of the burden of the proposed collection of information; (3) ways to enhance the quality, utility, and clarity of the information to be collected; and (4) ways to minimize the burden of the collection of information on respondents, including through the use of automated collection techniques or the use of other forms of information technology.

Title: Applicant Background Survey, VA Form 0913.

OMB Control Number: 2900-New (0913).

Type of Review: New Collection.

Abstract: VA Form 0913 will be used to collect data needed for the planning and assessing affirmative employment program initiatives. The data will be used to report in an aggregated manner to the Equal Employment Opportunity Commission and to conduct aggregated adverse impact analysis to ensure VA's employment and selection decisions are fair and equitable.

Affected Public: Individuals or households.

Estimated Annual Burden: 1,250 hours.

Estimated Average Burden Per Respondent: 5 minutes.

Frequency of Response: Annually.

Estimated Number of Respondents: 15,000.

Dated: August 10, 2009.
By direction of the Secretary.
Denise McLamb,
Program Analyst, Enterprise Records Service.

[FR Doc. E9-19408 Filed 8-12-09; 8:45 am]

BILLING CODE 8320-01-P